EQUAL EMPLOYMENT OPPORTUNITY COMMISSION

Notice of Delegation of Authority—Processing Complaints Under Section 508 of the Rehabilitation Act

SUMMARY: The amendments to section 508 of the Rehabilitation Act of 1973, 29 U.S.C. 794d, which took effect in 2001 provide that each federal agency must ensure that the electronic and information technology it develops, procures, maintains, or uses is accessible to individuals with disabilities who are federal employees or applicants, or members of the public seeking information or services from the agency. Section 508 authorizes individuals to file administrative complaints and civil actions against an agency, limited to the alleged failure to procure accessible technology. The statute requires federal agencies to process section 508 complaints according to the same complaint procedures used to process section 504 complaints. See 29 U.S.C. 794d(f)(2).

Notice is hereby given that by Order dated July 22, 2003, the Chair of the Equal Employment Opportunity Commission (EEOC) delegated to the Director of the EEOC's Office of Equal Opportunity (OEO), without authority to redelegate, authority for processing all section 508 complaints against the EEOC. Pursuant to this delegation, the Director of the OEO shall process all section 508 complaints by applicants, employees, or members of the public, against the EEOC, pursuant to the compliance procedures set forth in 29 CFR 1615.170(d)-(m). These are the same procedures which the EEOC uses to process section 504 complaints against the EEOC by members of the public. The Order provided that the EEOC will not utilize the Federal sector equal employment opportunity administrative complaint procedures, 29 CFR part 1614, to process any section 508 complaints against EEOC, even if filed by an EEOC applicant or employee. The Order explained that as distinguished from the EEOC's authority to process section 501 claims under part 1614, the EEOC does not have authority to interpret and enforce section 508 under part 1614. The Order further provided that if a section 501 complaint filed against the EEOC in the part 1614 process includes a separate section 508 claim, OEO will process the section 501 claim through the part 1614 process, and will separately process the section 508 claim pursuant to the procedures set forth in 29 CFR 1615.170(d)-(m). By this Order, the EEOC did not alter any of its existing procedures for processing complaints under section 501 or section 504 of the Rehabilitation Act.

EFFECTIVE DATE. The delegation of authority became effective on July 22, 2003.

FOR FURTHER INFORMATION CONTACT: Carol R. Miaskoff, Assistant Legal Counsel, at 202-663-4689.

Dated: July 22, 2003.
Cari M. Dominguez,
Chair.

[FR Doc. 03-19986 Filed 8-5-03; 8:45 am]

BILLING CODE 6570-01-P